DEPARTMENT OF HEALTH AND HUMAN SERVICES

Health Resources and Services Administration

Advisory Council; Notice of Meeting

In accordance with section 10(a)(2) of the Federal Advisory Committee Act (Public Law 92-463), announcement is made of the following National Advisory body scheduled to meet during the month of December 2000.

Name: Council on Graduate Medical Education (COGME).

Date and Time: December 13, 2000; 8:30 a.m.-4:30 p.m.; December 14, 2000; 8:30 a.m.-10:30 p.m.

Place: Holiday Inn Capitol, 550 C Street, SW., Washington, DC 20024.

The meeting is open to the public.

Agenda

The agenda will include: Welcome and opening comments from the Administrator, Health Resources and Services Administration; the Associate Administrator for Health Professions; and the Acting Executive Secretary of COGME. New COGME members will be introduced. The Council will be given an update on the COGME and the National Advisory Council on Nurse Education and Practice (NACNEP) Report. There will be presentations on the Hispanic Physician Workforce and on Regional Trends in the Physician Workforce. The Council will hear reports from its work groups on GME Financing and Physician Workforce. There will be a discussion on future directions for the Council.

Anyone requiring information regarding the meeting should contact Stanford M. Bastacky, D.M.D., M.H.S.A., Acting Executive Secretary, Council on Graduate Medical Education, Division of Medicine and Dentistry, Bureau of Health Professions, Room 9A-27, Parklawn Building, 5600 Fishers Lane, Rockville, Maryland 20857, telephone (301) 443-6326.

Agenda items are subject to change as priorities dictate.

Dated: November 9, 2000.
Jane M. Harrison,
Director, Division of Policy Review and Coordination.

[FR Doc. 00-29328 Filed 11-15-00; 8:45 am]

BILLING CODE 4160-15-P